Title 3—

The President

Executive Order 13475 of October 7, 2008

Further Amendments To Executive Orders 12139 And 12949 In Light of the Foreign Intelligence Surveillance Act of 1978 Amendments Act of 2008

By the authority vested in me as President by the Constitution and the laws of the United States of America, including sections 104 and 303 of the Foreign Intelligence Surveillance Act of 1978 (50 U.S.C. 1801 et seq.), as amended by the Foreign Intelligence Surveillance Act of 1978 Amendments Act of 2008 (Public Law 110-261), it is hereby ordered as follows:

Section 1. Section 1-103 of Executive Order 12139 of May 23, 1979, as amended, is further amended by:

(a) striking “(7)” each place it appears and inserting in lieu thereof “(6)”;

(b) adding after subsection (h) “(i) Deputy Director of the Federal Bureau of Investigation.”; and

(c) by adding after the sentence that begins “None of the above officials . . .”, a new sentence to read “The requirement of the preceding sentence that the named official must be appointed by the President with the advice and consent of the Senate does not apply to the Deputy Director of the Federal Bureau of Investigation.”

Sec. 2. Section 3 of Executive Order 12949 of February 9, 1995, as amended, is further amended by:

(a) striking “(7)” each place it appears and inserting in lieu thereof “(6)”;

(b) striking “and” at the end of subsection (g);

(c) striking the period at the end of subsection (h) and inserting in lieu thereof “; and”;

(d) adding after subsection (h) “(i) Deputy Director of the Federal Bureau of Investigation.”; and

(e) by adding after the sentence that begins “None of the above officials . . .”, a new sentence to read “The requirement of the preceding sentence that the named official must be appointed by the President with the advice and consent of the Senate does not apply to the Deputy Director of the Federal Bureau of Investigation.”

Sec. 3. This order is not intended to, and does not, create any right or benefit, substantive or procedural, enforceable at law or in equity, by any party against the United States, its agencies, instrumentalities, or entities, its officers, employees, or agents, or any other person.

THE WHITE HOUSE,

October 7, 2008.

[FR Doc. E8-24342

Filed 10-9-08; 8:45 am]

Billing code 3195-W9-P